DEPARTMENT OF COMMERCE

International Trade Administration

[A-351-842]

Certain Uncoated Paper From Brazil: Partial Rescission of Antidumping Duty Administrative Review; 2019-2020

AGENCY: Enforcement and Compliance, International Trade Administration, Department of Commerce.

SUMMARY: The Department of Commerce (Commerce) is partially rescinding the administrative review of the antidumping duty order on certain uncoated paper (uncoated paper) from Brazil for the period of review (POR) March 1, 2019 through February 29, 2020.

DATES: Applicable August 17, 2020.

FOR FURTHER INFORMATION CONTACT: Jerry Huang, AD/CVD Operations, Office V, Enforcement and Compliance, International Trade Administration, U.S. Department of Commerce, 1401 Constitution Avenue NW, Washington, DC 20230; telephone: (202) 482-4047.

SUPPLEMENTARY INFORMATION:

Background

On March 2, 2020, Commerce published a notice of opportunity to request an administrative review of the antidumping duty order on uncoated paper from Brazil.¹ Pursuant to requests from interested parties, Commerce initiated an administrative review with respect to three companies, in accordance with section 751(a) of the Tariff Act of 1930, as amended (the Act).² Subsequent to the initiation of the administrative review, the petitioners ³ timely withdrew their request for an administrative review of two companies, as discussed below. No other party requested an administrative review of these companies.

¹ See Antidumping or Countervailing Duty Order, Finding, or Suspended Investigation; Opportunity to Request Administrative Review, 85 FR 12267 (March 2, 2020).

² See Initiation of Antidumping and Countervailing Duty Administrative Reviews, 85 FR 26931 (May 6, 2020) (Initiation Notice).

³ Collectively, the petitioners are: Domtar Corporation, P.H. Glatfelter Company, Packaging Corporation of America, and the United Steel, Paper and Forestry, Rubber, Manufacturing, Energy, Allied Industrial and Service Workers International Union, AFL-CIO, CLC.

Partial Rescission of Administrative Review

Pursuant to 19 CFR 351.213(d)(1), Commerce will rescind an administrative review, in whole or in part, if the party that requested a review withdraws its request within 90 days of the date of publication of the notice of initiation. The request for an administrative review of the following companies was withdrawn within 90 days of the date of publication of the Initiation Notice: International Paper do Brasil Ltda. and International Paper Exportadora Ltda.⁴ As a result, Commerce is rescinding this review with respect to these two companies, in accordance with 19 CFR 351.213(d)(1). The review will continue with respect to Suzano S.A.⁵

⁴ See Petitioners' Letter, “Uncoated Paper From Brazil/Partial Withdrawal Of Request For Administrative Review Of The Antidumping Order,” dated July 28, 2020.

⁵ See Initiation Notice, 85 FR at 26933.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instructions to CBP 15 days after publication of this notice.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: August 12, 2020.
James Maeder,
Deputy Assistant Secretary for Antidumping and Countervailing Duty Operations.

[FR Doc. 2020-17923 Filed 8-14-20; 8:45 am]

BILLING CODE 3510-DS-P